DEPARTMENT OF TRANSPORTATION

Surface Transportation Board

49 CFR Part 1247

[STB Ex Parte No. 583]

Modification of the Class I Reporting Regulations

AGENCY: Surface Transportation Board.

ACTION: Notice of proposed rulemaking.

SUMMARY: The Surface Transportation Board (Board) solicits comments on requiring Class I railroads to report the number of rail cars loaded and terminated annually. The effect of this proposal, if adopted, will be to ensure the continued availability of these data.

DATES: Comments are due on September 1, 2000.

ADDRESSES: Send comments (an original and 10 copies) referring to STB Ex Parte No. 583 to: Surface Transportation Board, Office of the Secretary, Case Control Branch, 1925 K Street, NW, Washington, D.C. 20423-0001.

FOR FURTHER INFORMATION CONTACT: Paul A. Aguiar, (202) 565-1527 or H. Jeff Warren, (202) 565-1533. [Assistance for the hearing impaired is available through TDD services (202) 565-1695.]

SUPPLEMENTARY INFORMATION: The Association of American Railroads (AAR) currently collects quarterly data on the number of rail cars loaded and terminated by each Class I railroad in Equipment Report, Cars Loaded and Cars Terminated (AAR Form CS-54-1). Data contained in these quarterly reports are aggregated by the AAR to create an annual AAR Form CS-54-1 report for each railroad. These annual reports are used by the Board as inputs into the Uniform Railroad Costing System (URCS). To ensure the continued availability of these data, we propose that the Class I railroads file an abbreviated version of the AAR's annual Form CS-54-1 with the Board within 90 days after the end of the calendar year. The proposed STB report—Annual Report of Cars Loaded and Cars Terminated (Form STB-54)—would require reporting of only that data used as inputs for URCS, namely, Sections A and B of AAR Form CS-54-1.

If the proposed regulation set forth below is adopted, it will be codified at 49 CFR part 1247. Copies of proposed Form STB-54 and its instructions are available on the Board's web site (www.stb.dot.gov) under decisions of this docket. Alternatively, copies can be requested by writing or calling the contact persons listed above.

This action will not significantly affect either the quality of the human environment or energy conservation.

Pursuant to 5 U.S.C. 605(b), we preliminarily conclude that our action will not have a significant economic impact on a substantial number of small entities within the meaning of the Regulatory Flexibility Act.

List of Subjects in 49 CFR Part 1247

Freight, Railroads, Reporting and recordkeeping requirements.

Decided: June 30, 2000.
By the Board, Chairman Morgan, Vice Chairman Burkes, and Commissioner Clyburn.
Vernon A. Williams,
Secretary.

For the reasons set forth in the Preamble, Part 1247 Report of Cars Loaded and Cars Terminated would be added to Title 49, Chapter X of the Code of Federal regulations to read as follows:

PART 1247—REPORT OF CARS LOADED AND CARS TERMINATED

Authority: 49 U.S.C. 721, 10707, 11144, 11145.

§ 1247.1 Annual Report of Cars Loaded and Cars Terminated.

Beginning with the reporting period commencing January 1, 2001, and annually thereafter, each Class I railroad shall file Form STB-54, Annual Report of Cars Loaded and Cars Terminated with the Office of Economics, Environmental Analysis, and Administration (OEEA&A), Surface Transportation Board, Washington, DC 20243, within 90 days after the end of the reporting year. Blank forms and instructions are available on the Board's web site (www.stb.dot.gov) or can be obtained by contacting OEEA&A.

[FR Doc. 00-18077 Filed 7-17-00; 8:45 am]

BILLING CODE 4915-00-P